DEPARTMENT OF HOUSING AND URBAN DEVELOPMENT

[Docket No. FR-5030-FA-26]

Announcement Of Funding Awards For The Service Coordinators In Multifamily Housing Fiscal Year 2006

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Service Coordinators in Multifamily Housing program. This announcement contains the names of the awardees and the amounts of the awards made available by HUD.

FOR FURTHER INFORMATION CONTACT: Mr. Willie Spearmon, Director, Office of Housing Assistance and Grant Administration, 451 Seventh Street, SW., Washington, DC 20410; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Service Coordinators in Multifamily Housing program is authorized by Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000). The competition was announced in the SuperNOFA published in the Federal Register on March 8, 2006 (71 FR 12001). Applications were reviewed and selected for funding on the basis of selection criteria contained in that Notice.

The Catalog of Federal Domestic Assistance number for this program is 14.191.

The Service Coordinators in Multifamily Housing program allows multifamily housing owners to assist elderly individuals and nonelderly people with disabilities living in HUD-assisted housing and in the surrounding area to obtain needed supportive services from the community, to enable them to continue living as independently as possible in their homes.

A total of $12,105,849 was awarded to 75 owners, serving 79 projects with 6,088 units nationwide. In accordance with section 102(a)(4)(C) of the Department of Housing and Urban Development Reform Act of 1989 (103 Stat. 1987. 42 U.S.C. 3545), the Department is publishing the grantees and amounts of the awards in Appendix A of this document.

Dated: December 1, 2006.
Brian Montgomery,
Assistant Secretary for Housing, Federal Housing Commissioner.

Appendix A—Funding Awards For The Service Coordinators In Multifamily Housing

Fiscal Year 2006

Shelby Senior Housing, Incorporated

P.O. Box 830605

Birmingham, AL 35283

Shelby Woods Apartments $89,513

Christopher Homes of El Dorado, Incorporated

2417 North Tyler

Little Rock, AR 72217

Christopher Homes of El Dorado

$141,737

Our Way Partners, LP

10681 Foothill Blvd Suite 220

Rancho Cucamonga, CA 91730

Our Way Apartments

$247,307

Christopher Homes of West Helena, Incorporated

2417 North Tyler

Little Rock, AR 72217

Christopher Homes of West Helena

$131,777

Salvation Army Chula Vistas Res., Incorporated.

180 E. Ocean Blvd.

Long Beach, CA 90802

Silvercrest—Chula-Vista

$227,113

Las Palmas Foundation, General Partner

531 Encintas Blvd., Suite 206

Encintas, CA 92024

Indio Gardens

$278,100

Saint James Wilshire Found. Dba Saint James Manor

3903 Wilshire Blvd.

Los Angeles, CA 90010

Saint James Manor

$234,865

NHDC Tres Lomas, LP

10681 Foothill Blvd

Rancho Cucamonga, CA 91730

Tres Lomas Apartments

$242,835

Community Church Retirement Center #2

40 Camino Alto

Mill Valley, CA 94941

The Redwoors II

$147,543

Hudson Street Apartments Limited Partnership

55 Beattie Place

Greenville, SC 29602

Hudson Gardens

$123,640

Gardena Valley Cultural Institute

16215 South Gramercy Place

Gardena, CA 90247

JCI Gardens

$234,865

Arvada House Preservation Limited Partnership

P. O. BOX 1089

Greenville, SC 29602

Arvada House

$184,112

Francis Heights, Incorporated

2626 Osceola

Denver, CO 80212

Francis Heights

$205,196

First Baptist Housing Corporation

1130 Albany Avenue

Hartford, CT 06112

First Village

$169,206

First Housing Corporation

1132 Albany Ave.

Hartford, CT 06112

Second Village

$169,206

Schoolhouse Apts Incorporated

156 South Avenue

New Canaan, CT 06840

School House Apartments

$156,173

New Neighborhoods, Incorporated

40 Stillwater Avenue

Stamford, CT 06902

Martin Luther King Apartments

$172,229

Welles Country Village, Limited

2664-2 State Street

Hamden, CT 06517

Welles Country Lane

$72,891

Farmington Ecumenical & Elderly Housing Corporation

300 Plainville Avenue

Unionville, CT 06085

Westerleigh

$142,726

West Hartford Fellowship Housing, Incorporated

759 Farmington Ave

West Hartford, CT 06119

West Hartford Fellowship I

$254,777

West Hartford Fellowship Housing III, Incorporated.

20 Starkel Rd

West Hartford, CT 06117

West Hartford Fellowship III

$254,777

Fannie E. Taylor Home for the Aged, Incorporated

6601 Chester Avenue

Jacksonville, FL 32217

Fannie E. Taylor Home for the Aged

$207,862

Presbyterian Homes of South Florida, Inc.

1200 Broad St. W.

Lehigh Acres, FL 33936

Sunshine Villas Annex

$147,403

Ashton Lenox, LLC

7000 Central Pkwy NE

Atlanta, GA 30328

Lenox Summit

$421,794

Wheat Street Towers LLC

PO Box 10522

Atlanta, GA 30310

Wheat Street Towers

$282,502

Elderwood Incorporated

P.O. Box 1965

Waycross, GA 31502

Elderwood Homes

$201,673

American Heritage Enterprises, LLC

2715 Fair Ln

Denison, IA 51442

Oakwood Manor Apartments

$86,404

Sioux Falls Environmental Access Incorporated

2101 W 41st St Ste 20

Sioux Falls, SD 57105

Kingston Apartments

$86,992

Sioux Falls Environmental Access, Incorporated

2101 W 41st St Ste 20

Sioux Falls, SD 57105

Century II Apartments

$163,881

NWRECC Idaho Affordable Housing Preservation LP

210 W. Mallard Drive

Boise, ID 83706

Burrell Street Station

$125,148

Highlander Limited Liability Corporation

3540 12TH ST

Lewiston, ID 83501

The Highlander

$112,436

Diversey Square Parkway/Associates

205 W Wacker Dr Ste 23

Chicago, IL 60606

Diversey Square I

$207,820

Walden Oaks Apartments Preservation, NFP

325 N. Wells Street, 8th floor

Chicago, IL 60610

WALDEN OAKS

$203,130

East Cental Towers Limited Partnerships

55 Beattie Place

Greenville, SC 29601

East Cental Towers

$194,093

Lawrence Senior Residences, L.P.

7701 E Kellogg

Wichita, KS 67207

Vermont Towers

$129,391

Hubbarston Elderly Housing, Incorporated

205 School Street

Gardner, MA 1440

Hubbardston House Apartments

$241,670

Coursey Stations Apartments, Incorporated

320 Cathedral Street

Baltimore, MD 21201

Coursey Station Apartments

$95,099

Sharp-Leadenhall Associates

55 Beattie Place

Greenville, SC 29602

Sharp-Leadenhall I

$200,613

Harborview Housing Associates

P.O. Box 2388

Augusta, ME 4338

Harbor View Apartments

$93,600

One Madison Avenue Associates

55 Beattie Place, 3rd Floor

Greenville, SC 29601

One Madison Avenue

$87,375

Cadillac Harbor View, LDHA LP

8111 Rockside Rd

Cleveland, OH 44125

Harbor View

$129,867

National Church residences of Harper Wds MI

2335 N Bank Dr

Columbus, OH 43220

Park Place of Harper Woods

$202,229

Winterset Limited Dividend Housing Association LP

707 Sable Oaks Dr

Somerset

$223,136

Arlington Leased Housing Associated, A MN LP

2355 Polaris Lane, Suite 100

Plymouth, MN 55447

Highland Commoms

$111,419

Cloquet Housing Associated, Ltd Partnership

2355 Polaris Lane, Suite 100

Plymouth, MN 55447

Larson Tower

$117,169

United Handicap Federation Apt Associates

2355 Polaris Lane, Suite 100

Plymouth, MN 55447

2100 Bloomington Court

$134,787

Housing Initiatives of New England Corporation

415 Congress St Ste 204

Portland, ME 4101

Bagdad Wood

$54,674

LH Housing—Hiniec, LLC

415 Congress Street

Portland, ME 4101

Lane House

$58,685

Cedar House Senior Living Limited Partnership

415 Congress St Ste 204

Portland, ME 4101

Cedar House

$41,401

MAHLEP Housing, LP

415 Congress Street

Portland, ME 4101

Pelham Terrace

$42,044

RESL Limited Partnership

415 Congress St Ste 204

Portland, ME 4101

Rochester East

$56,806

Ballantyne House Associates

505 Mt. Prospect Ave

Newark, NJ 07104

Ballantyne House

$128,923

Piotr Stadinski Gardens Incorporated

350 Essjay Rd

Williamsville, NY 14221

Piotr Stadinski Gardens

$135,126

Lake Area Development Corp. (LADC)

41 Lewis Street

Geneva, NY 14456

The Seneca Apartments

$73,674

St. Simeon Second Mile Corporation

700 Second Mile Drive

Poughkeepsie, NY 12601

Saint Simeon Apartments

$99,506

Syracuse Senior Citizens Project Corporation

821 E Brighton Ave

Syracuse, NY 13205

Brighton Towers

$167,047

National Church Residences of Balimore Ohio

2335 North Bank Drive

Columbus, OH 43220

Walnut Creek Village

$86,466

Community Development Properties Cleveland I, Incorporated

51 East 42nd Street, Suite 300

New York, NY 10017

Rainbow Group

$312,125

Benchmark Winton House Associates, L.P.

4053 Maple Rd

Amherst, NY 14226

Winton House

$182,781

National Church Residences of Northern Columbus

2335 N Bank Drive

Columbus, OH 43220

Stygler Commons

$91,503

Gorsuch Management

603 W Wheeling St

Lancaster, OH 43130

Village Park

$106,644

Hunterwood Park Ltd

603 W Wheeling St

Lancaster, OH 43130

Hunterwood Park Ltd

$179,813

Lima Towers, A Limited Partnership

1170 Terminal Tower

Cleveland, OH 44113

Lima Towers, A Limited Partnership

$183,379

Aimco

4582 S. Ulster Si. Parkway Suite 1100

Denver, CO 80237-2632

White Cliffs Apartments

$182,685

Owensville Commons, Limited

P.O. Box 190

Lancaster, OH 43130

Owensville Commons

$106,512

Charleston Court, Limited

603 West Wheeling Street

Lancaster, OH 43130

Charleston Court, Ltd.

$108,373

Villa Park Ltd.

603 W Wheeling St

Lancaster, OH 43130

Villa Park, Ltd.

$183,105

Fish Creek Plaza, Limited

1201 Third Avenue, Suite 5400

Seattle, WA 98101

Lawrence Saltis Plaza

$190,908

National Church Residences of Wapkoneta, Ohio

2335 N. Bank Dr.

Columbus, OH 43220

Wapakoneta Village

$100,903

S J Strauss Lodge of B'Nai B'Rith Housing

61 East Northhampton Street

Wilkes-Barre, PA 18701

B'Nai B'Rith Apartments

$166,420

United Housing Partnership-Morristown, Ltd.

55 Beattie Place

Greeneville, SC 29602

Laurelwood Apartments

$96,890

Gunn Garden Apartments, A Limited Partnership

35 Union Avenue, Suite 200

Memphis, TN 38103

Gunn Gasrden Apartments

$131,979

Knopp Enterprises, Incorporated

22 Terry Court

Staunton, VA 24401

Plaza Apartments

$370,833

Wisconsin Housing Preservation Corp.

2 E Mifflin St Ste 401

Madison, WI 53703

Chateau/Regency Apartments

$162,281

Senior Towers Associates

6190 Canal Road

Valley View, OH 44125

Senior Towers

$216,282

[FR Doc. E6-21557 Filed 12-18-06; 8:45 am]

BILLING CODE 4210-67-P